DEPARTMENT OF TRANSPORTATION

Federal Transit Administration

Notice To Rescind Notice of Intent To Prepare an Environmental Impact Statement (EIS) on Central Broward East-West Transit Analysis in Broward County, FL

AGENCY: Federal Transit Administration, DOT.

ACTION: Rescind Notice of Intent to Prepare an Environmental Impact Statement.

SUMMARY: The Federal Transit Administration (FTA), in cooperation with the Florida Department of Transportation (FDOT), is issuing this notice to advise the public that the Notice of Intent (NOI) to prepare an Environmental Impact Statement (EIS) for the proposed public transportation improvement project in Broward County, Florida is being rescinded.

FOR FURTHER INFORMATION CONTACT: Mr. Andres Ramirez, General Engineer, Federal Transit Administration Region IV, 230 Peachtree Street NW., Atlanta, GA 30303, phone 404-865-5611, email andres.ramirez@dot.gov.

SUPPLEMENTARY INFORMATION: The FTA, as the lead federal agency, in cooperation with FDOT published a NOI in the Federal Register on September 2, 2008 (73 FR 51338) to prepare an EIS for improved transit services in the Central Broward East-West Corridor between Sawgrass Mills/Bank Atlantic Center and the Fort Lauderdale-Hollywood International Airport through Downtown Fort Lauderdale.

Since that time, FTA and the FDOT have decided to re-evaluate the transportation improvement project in terms of scope and alternatives beyond what was originally considered. Therefore, the FTA has determined that the NOI for the EIS will be rescinded.

Comments and questions concerning the proposed action should be directed to FTA at the address provided above.

Yvette G. Taylor,
Regional Administrator, Federal Transit Administration Region IV, June 11, 2014.

[FR Doc. 2014-14089 Filed 6-16-14; 8:45 am]

BILLING CODE P